DEPARTMENT OF HEALTH AND HUMAN SERVICES

Funding Opportunity Title: Training of Latin American Health Care Workers through the Gorgas Memorial Institute, Republic of Panama

AGENCY: Office of the Secretary, Office of Public Health Emergency Preparedness, and the Centers for Disease Control and Prevention, HHS.

ACTION: Notice.

Announcement Type: Single-Source, Cooperative Agreement.

Funding Opportunity Number: Not applicable.

Catalog of Federal Domestic Assistance Number: The Office of Management and Budget (OMB) Catalog of Federal Domestic Assistance (CFDA) number is 93.019.

DATES: To receive consideration, applications must be received by the Office of Grants Management, Office of Public Health and Science (OPHS), Department of Health and Human Services (DHHS), no later than 5 p.m. Eastern Time on August 8, 2007. The application due date requirement in this announcement supersedes the instructions in the OPHS-1 form.

ADDRESSES: Application kits may be obtained electronically by accessing Grants.gov at http://www.grants.gov or GrantSolutions at http://www.GrantSolutions.gov. To obtain a hard copy of the application kits, contact OPHS/Office of Grants Management, 1101 Wootton Parkway, Suite 550, Rockville, MD 20852 at (240) 453-8822. Applications must be prepared using Form OPHS-1 “Grant Application,” which is included in the application kit.

SUMMARY: This project will support the Gorgas Memorial Institute (GMI) to: (a) Develop a regional training center in Panama and (b) train community health workers, clinicians (physicians, nurses, and auxiliary medical workers) and select public-health professionals from Central and South America (i.e. Latin America), (c) facilitate partnerships between U.S. universities and their Latin American counterparts to develop human resources for health in Latin America, and (d) harness the energies of U.S. and other non-governmental organizations by partnering with them to advance community health training and program efforts in Latin America.

These efforts will help engage significantly more areas of these countries to prepare for and respond to public health emergencies such as pandemic influenza, and they will contribute to improved and expanded provision of prevention and primary health care. This training of nurses, community health workers and physicians will focus on improving and expanding coverage and access to both public health emergency care and preventive and primary health care in underserved parts of Latin America (i.e., both underserved rural and poor urban communities). It is anticipated that as a result of this project, the healthcare work force will be better prepared to respond to public health emergencies such as pandemic influenza. Key to the selection of recipients for this training will be their availability and willingness to provide their health and medical care skills in underserved areas within the region. In addition to all appropriate medical care and health education or communication subjects, training supported by this project will emphasize infectious diseases, epidemiology, disease surveillance and outbreak response, among other subjects so graduates of training programs will be prepared to play contributing roles to any pandemic preparation and response.

SUPPLEMENTARY INFORMATION: While a number of Latin American countries have made significant strides towards improving the quality of health care for their citizens, and extending that care into underserved areas, a number of countries and regions still suffer from a shortage of appropriately trained health-care workers and clinicians. Though all levels of medical care (primary, secondary and tertiary) warrant further investment and effort to meet Latin Americans' present and growing need for medical care, this need is perhaps most acute among rural and disadvantaged urban communities, where essential public health, prevention and primary care are absent or sparse. From a public-health perspective, focusing public investment on basic and essential primary care results in a maximization of benefits for the greatest number of people.

Compounding the pre-existing and wide ranging needs for basic community, preventive and primary health care in this region are new threats from emerging infectious diseases that are looming on the horizon. The H5N1 strain of avian flu has become the most threatening influenza virus in the world that could cause a pandemic, and any large-scale outbreak of this disease among humans would have grave consequences for global public health, including in Latin America. Influenza experts have warned that the re-assortment of different influenza viruses may greatly increase the potential for the viruses to be transmitted more easily from person to person. Medical practitioners have also discovered several other, new avian viruses transmissible to humans. In the fight against avian and pandemic influenza, early detection and response is the first line of defense, and greater numbers of appropriately trained community and clinical health-care workers would play a vital role in helping respond to such public-health emergencies.

No funds provided under this cooperative agreement may support any activity that duplicates another activity supported by any component of HHS. Funds provided under this cooperative agreement may not supplant funding provided by other sources. Grantees must coordinate all funded activities with the HHS Centers for Disease Control and Prevention (CDC) and the Office of the Assistant Secretary for Preparedness and Response (ASPR).

I. Funding Opportunity Description

Authority: Section 307(a) and (b) of the PHS Act (42 U.S.C. 242l); Section 1702(a)(2), (3) and (4)(A) and (C) (42 U.S.C. 300u-1(a)(2), (3), and 4(A) and (C)); Section 1703(a)(1), (2), (3), and (4) (42 U.S.C. 300u-2(a)(1), (2), (3) and (4)); Section 1703(c) (42 U.S.C. 300u-2(c)); and Section 1704 (1), (2), and (3) (42 U.S.C. 300u-3(1), (2), and (3)); and Public Law 110-5, Continuing Appropriations Resolution, 2007 Section 20621.

Purpose: This program proposes that GMI:

(a) Continue developing and establishing a regional training center in Panama for health workers, medical clinicians (auxiliary health-care workers, community health aides, nurses, physician assistants, nurse practitioners, and physicians) and select public-health professionals from Central and South America. Development of such a center is understood to include the recruitment and retention of faculty and administrative staff, the development of curricula, and all appropriate inter-face with Panamanian, regional and international educational systems and peer groups.

(b) Train significant numbers of community health workers and clinicians (physicians, nurses, and auxiliary medical workers) and select public-health professionals from Central and South American countries.

(c) Through this cooperative agreement with HHS, explore and lead, where possible, the creation of partnerships between U.S. universities and Latin American counterpart institutions to further develop and train community-level health-care human resources, and identify policy and program options that can contribute to the greater expansion and sustainability of community-level health-care workers in currently underserved areas. Additional funds from HHS could be available in the future to further expand the number of these partnerships.

(d) With HHS, investigate and develop approaches for collaborating with Latin American, U.S. and/or international non-governmental organizations (NGOs) to help advance the training of the community and field health and medical personnel of these NGOs.

(e) With HHS, investigate and develop approaches for collaborating with Latin American and U.S. NGOs to link, bridge and supplement these NGOs' community health initiatives, where possible, through GMI's provision of logistical support and a base of operations for the NGOs, working in agreement with GMI.

(f) Identify organizations of U.S.-based emigrants and their Latin American places of origin throughout the countries of Central and South America, and pursue efforts to build or expand community health complements to any community assistance initiatives these organizations may be providing.

(g) With HHS, international health organizations and NGOs, pursue coordinated efforts on health campaigns of public-health priority for which a campaign strategy approach offers merit (e.g., immunization promotion, including seasonal influenza immunization, polio eradication, oral rehydration therapy, etc.). Any campaigns should utilize the best available approaches to researching, development, implementation and evaluation. GMI will design and implement new teaching methods directed to the community, to adopt healthy lifestyles towards prevention.

Measurable outcomes of the program will be the following:

(a) Continue efforts begun in the first year of this effort, to develop appropriate teaching curricula, engage with appropriate Panamanian and international teaching/educational networks to ensure high educational standards; hire appropriately-trained teaching, administrative and management staff; and establish all appropriate management, fiscal, and business operations to support and sustain such a training institute.

(b) Periodic reports of the number of people who have completed training; such reports should include details on the numbers of those who have dropped out midway, and those who have completed the training; pre- and post-test scores on key competency subject areas; numbers trained by type of health-care or clinical worker; town and country of origin of incoming students, as well as where those same students work and reside at six- and twelve-month intervals following the completion of their training; and the results of follow-up questionnaires sent to graduates that solicit feedback on their training and its appropriateness, and suggestions for how the school might improve its training. Any information Gorgas provides to HHS on training participants should remove individuals' personal data from the reports so that participants' privacy will be maintained. (See “Reporting Requirements #2” section later in this document for complementing reporting obligations pertinent to this outcome).

(c) The number of partnerships with U.S. institutions explored, as well as the number for which formal partnerships have been created, where substantive exchange of training expertise, faculty, and/or students is documented and described.

(d) The number of studies and recommendations of program and policy options available to Latin American countries that would contribute to expanded, sustained community-level health-care personnel.

(e) The number of partnerships with Latin American, U.S. and/or international NGOs that are explored, and the number of such partnerships developed and formally established.

(f) Detailed descriptions of the base-of-operations and logistics resources that GMI has developed and is maintaining, along with details of how it is communicating the availability of these resources to NGOs.

(g) The number of Latin American, U.S. and/or international NGOs that have opted to use GMI's provision of base-of-operations and logistics support in a given time period, and details on the nature and extent of such utilization.

(h) The number of health campaigns in which GMI participates, with detailed description(s) of the role(s) played by GMI along with the level of effort it contributed to each of these efforts.

(i) Quantify and detail the number of organizations of U.S.-based emigrants with which GMI has identified and partnered with, to enhance their community-health activities, and provide details of those community-health activities.

(j) The number of scholarships awarded to low income students, who will be participating in these trainings. Any information Gorgas provides to HHS on training participants should remove individuals' personal data from the reports so that participants' privacy will be maintained.

Activities HHS anticipates the Grantee will perform:

It is anticipated the grantee will undertake a variety of activities to realize the aforementioned purposes and outcomes. A list of what some of these activities might include follows.

1. Continue establishing/developing appropriate teaching curricula for specific training modules and assemblages of trainees;

2. In partnership with HHS, Panamanian Ministry of Health and NGOs, acquire didactic teaching resources and equipment that will allow appropriate training.

3. Continue engaging in appropriate Panamanian and international teaching or educational networks to ensure high educational standards;

4. Continue recruiting and hiring appropriately trained teaching and administrative staff;

5. Continue establishing all appropriate management, fiscal, and business operations to support and sustain an efficient and effective training institute;

6. Establishing an efficient performance monitoring and reporting system and submitting periodic reports to HHS;

7. Continue pursuing and developing partnerships with U.S. educational institutions in expanding GMI's knowledge, contacts and resources for improving and expanding community training and sustainability of health workers;

8. Pursuing and developing partnerships with Latin American, U.S. and/or international NGOs to provide these NGOs' healthcare staff with appropriate training;

9. Identify an appropriate level of facilities that can function as a base of operation for NGOs, with appropriate contingency plans for expanding this level of facilities as interest and demand for it could grow;

10. Identify, provide and assemble logistics resources for NGOs to enhance their community-health and outreach activities;

11. In partnership with HHS, and NGOs, identify appropriate topics for health campaigns and participate in the implementation and assessment of those campaigns;

12. Identify and approach fraternal organizations of U.S.-based emigrants that provide assistance to communities in Latin America, and partner with these groups to enhance their community-health activities.

13. In partnership with HHS, Panamanian Ministry of Health and NGOs, identify scholarships or fellowships to participating healthcare personnel attending these courses.

This cooperative agreement will provide total funding of $600,000 for all aspects of the described project.

HHS will be substantially involved with the design and implementation of the grantee's described activities. This grant is being issued and will be managed by the Centers for Disease Control and Prevention (CDC)/Office of the Assistant Secretary for Preparedness and Response (ASPR), with substantive involvement from the Office of Global Health Affairs (OGHA). In HHS international public health efforts, the Offices/Centers of OGHA, CDC and ASPR often collaborate on programs, issues and initiatives (e.g., avian influenza, disease surveillance, etc.).

HHS staff members' activities for this program are as follows:

1. Provide assistance in the design and implementation with any of the aforementioned objectives and activities, including the identification of U.S. universities, and NGOs.

2. Provide liaison through HHS employees at U.S. Embassy(ies) in any participating or collaborating countries, as appropriate, and as relevant to the achievement of the purposes of this cooperative agreement.

3. Organize an orientation meeting with the grantee to discuss applicable U.S. Government, HHS, and National Strategic Plan expectations, regulations and key management requirements, as well as report formats and contents. The orientation could include meetings with staff from HHS agencies and the Office of the Senior Coordinator for Avian and Pandemic Influenza at the U.S. Department of State.

4. Review and approve the process used by the grantee to select key personnel and/or post-award subcontractors and/or subgrantees to be involved in the activities performed under this agreement.

5. Review and approve the grantee's work plan and detailed budget;

6. Review and approve the grantee's monitoring-and-evaluation plan, including for compliance with the strategic-information guidance established by OMB and HHS;

7. Review, on a monthly basis, with the grantee to assess monthly disbursement requests and expenditures in relation to approved work plan and modify plans, as necessary.

8. Meet via conference call on a quarterly basis with the grantee to assess quarterly technical and financial progress reports and modify plans, as necessary.

9. Meet via conference call or in person with the grantee to review the final progress report.

10. Provide technical assistance, as mutually agreed upon. This could include expert technical assistance and targeted training activities in specialized areas, such as strategic information and project management.

11. Provide in-country administrative support to help the grantee meet U.S. Government financial and reporting requirements approved by OMB under 0920-0428 (Public Health Service Form 5161).

12. Assist in assessing program operations and in implementing approaches to accurately monitor the progress and evaluate the overall effectiveness of the program.

II. Award Information

This project will be supported through the cooperative agreement mechanism. CDC/ASPR anticipates making only one award for this proposed work. The anticipated start date is September 15, 2007 to run through to September 14, 2008. CDC/ASPR anticipates providing $600,000 for the 12-month budget period. The total amount that the Gorgas Memorial Institute for Health Studies may request is $600,000. The funds in this cooperative agreement may not support indirect costs.

Approximate Current Fiscal Year Funding: $600,000.

Approximate Total Project Period Funding: This cooperative agreement will provide total funding of $600,000 for a 12-month budget period. Funds under this cooperative agreement shall not apply to indirect costs.

Approximate Number of Awards: One.

Ceiling of Individual Award Range: Maximum dollar amount for the 12-month budget period is $600,000, and will not include payment of any indirect costs.

Throughout the project period, the commitment of HHS to the continuation of funding will depend on the availability of funds, evidence of satisfactory progress by the recipient (as documented in required reports), demonstrated commitment of the recipient to the principles of the terms and spirit of this agreement.

III. Eligibility Information

1. Eligible Applicants

The only eligible applicant that can apply for this funding opportunity is the Gorgas Memorial Institute for Health Studies of Panama. The Republic of Panama has legacy of biomedical triumphs that began with the building of the Panama Canal. Recognizing the outstanding achievements of William Crawford Gorgas in eliminating Yellow Fever and controlling other tropical infections that made possible the construction of the Panama Canal, Panamanian President Belisario Porras proposed in 1920, the creation of the Gorgas Memorial Institute and Laboratories (GMI). GMI opened its doors in 1928, and since then has produced ground-breaking and internationally recognized work in the field of tropical medicine, emerging and re-emerging diseases.

As a public health, training, and research institution, GMI offers strengths in several areas that are essential to the effective realization of this proposal's objectives and activities.

Staffing: GMI has 201 workers that include trainers, physicians, scientists, technical staff and administrative staff. GMI scientific and technical expertise resides in its excellent professional staff members, six of whom are PhDs and 12 of whom are M.D.s. One of the physicians is a former Minister of Health. GMI has two veterinary physicians with PhDs and many technicians with master degrees in science. GMI has a specialist in geo-reference and a group trained in field isolation of dangerous organisms from animal tissues (developed during the Hanta virus epidemics). There is also an excellent administrative, medical library and informatics staff.

Scientific and technical expertise: GMI is the National Public Health Laboratory and the reference laboratory for influenza, dengue and other pathogenic viruses in Panama. It is the reference laboratory for Central America and Panama for HIV/AIDS, measles, Hanta virus and viral encephalitis. Its parasitologists have worked and continue to work in malaria, leishmania and Chagas disease.

GMI has a long and solid reputation in virology, easily confirmed by many distinguished virologists in the United States. The Gorgas Department of Virology has been extremely productive through its collaborations with the Yale University Arbovirus Research Unit, the University of Texas at Galveston and the CDC. GMI began working with influenza in 1976 and has contributed influenza isolates to the WHO, one of which is used in the current influenza vaccines. All these are health concerns of pressing significance for rural and underserved areas.

Laboratory: It has well-established laboratories of virology, parasitology, immunology, genomics, entomology and food and water chemistry. GMI is the national Public Health Laboratory and this makes it the reference laboratory for malaria, tuberculosis and all viral and bacterial diseases. GMI also has departments of epidemiology and biostatistics, chronic disease studies, health policy, and health and human reproduction studies. In addition to all these areas of expertise, GMI is also the locus of the national human subjects committee (National Institutional Review Board). A new BLS-3 laboratory currently under construction, along with the expansion and improvement of existing laboratory space, is part of a modernization plan that will significantly enhance the capability of GMI laboratories to provide training in the role that laboratory services play in community health care delivery.

Location: The unique geographic characteristics of Panama and its transportation (air, sea, and land) infrastructure make it an extremely central and accessible location for people from Central and South America who would attend for training.

Strategic Partnerships: GMI has a history of developing effective relations and partnerships with leading organizations including the Smithsonian Museum, the U.S. Department of Agriculture (USDA), and HHS/CDC-MERTU in Guatemala, among others.

Historical Medical Collaboration between the United States and Panama via GMI: American and Panamanian physicians and scientist have produced significant contributions since 1928, and those relationships continue up to present.

2. Cost-Sharing or Matching Funds

Cost participation is encouraged. HHS will pay $600,000, while GMI is encouraged to provide an amount that will be specified in their proposal. GMI's contribution may include indirect expenses and in-kind contributions. The types of resources GMI could contribute may include but are not limited to: Personnel time and costs, provision of existing and physical space and structures, and the remodeling (and associated costs) of those physical facilities that are to be converted to teaching facilities, vehicles for transportation, and the development of a staging area for NGOs. If applicants receive funding from other sources to underwrite the same or similar activities, or anticipate receiving such funding in the next 12 months, they must detail how the disparate streams of financing complement each other.

3. Other

If an applicant requests a funding amount greater than the ceiling of the award range, HHS will consider the application non-responsive, and the application will not enter into the review process. HHS will notify the applicant that the application did not meet the submission requirements.

Special Requirements

If the application is incomplete or non-responsive to the special requirements listed in this section, the application will not enter into the review process. HHS will notify the applicant that the application did not meet submission requirements. HHS will consider late applications non-responsive.

Please see “Submission Dates and Times,” Departments of Labor, Health and Human Services and Education, and Related Agencies, Public Law 110-5, Continuing Appropriations Resolution, 2007 Section 20621, which provides that an organization that engages in lobbying activities is not eligible to receive Federal funds constituting a grant, loan, or an award.

IV. Application and Submission Information

1. Address To Request Application Package

Application kits may be requested by calling (240) 453-8822 or writing to the Office of Grants Management, Office of Public Health and Science, Department of Health and Human Services, 1101 Wootten Parkway, Suite 550, Rockville, MD 20852. Applicants may also fax a written request to the OPHS Office of Grants Management at (240) 453-8823 to obtain a hard copy of the application kit. Applications must be prepared using Form OPHS-1.

2. Content and Form of Submission

Application: Applicants must submit a project narrative in English, along with the application forms, in the following format:

• The length of the proposal should not exceed 50 pages;

• Font size should be no smaller than 12-point, and it should be single-spaced;

• Paper size: 8.5 by 11 inches;

• Page-margin size: one inch;

• Number all pages of the application sequentially from page one (Application Face Page) to the end of the application, including charts, figures, tables, and appendices;

• Print only on one side of page; and

• Hold application together only by rubber bands or metal clips, and do not bind it in any way.

The narrative should address activities to be conducted over the entire project period and must include the following items in the order listed:

Understanding of the requirements: The application shall include a discussion of your organization's understanding of the need, purpose and requirements of this cooperative agreement. The discussion shall be sufficiently specific, detailed and complete to clearly and fully demonstrate that the applicant has a thorough understanding of all the technical requirements of this announcement.

Review of the First Year's Implementation and Progress: The applicant should provide a concise but sufficiently detailed summary of all progress made to date during the first year of their grant collaboration with HHS. The review of first year accomplishments should reference each and every one of the specific “measurable outcomes” specified in the first year's RFA, and describe any and all progress made on each of these measurable outcomes. If no progress has been made, then that fact should be stated. Whenever possible, any progress made on these outcomes should be quantified. And whenever possible, estimates should be made of the degree of accomplishment or completion (e.g. 25%, 50%, etc.) has been achieved, where a quantified final goal or target for the grant was identified.

Project Plan: The project plan must demonstrate that the organization has the technical expertise to carry out the work or task requirements of this announcement. The plan must contain sufficient detail to clearly describe the proposed means for pursuing and accomplishing each of the “Measurable Outcomes” and “Grantee Activities” described in Section I, and shall include a complete explanation of the methods and procedures the applicant will use. The project plan shall include discussions of the following elements:

○ Objectives;

○ Methods to accomplish the purposes of the cooperative agreement and the “Grantee Activities;”

○ Detailed time line for accomplishment of each activity;

○ Ability to respond to emergencies;

○ Ability to respond to situations on weekends and after hours; and

○ Coordination with HHS, U.S. educational institutions, and NGOs.

Staffing and Management Plan: The applicant must provide a project staffing and management plan, which must include time lines and sufficient detail to ensure that it can meet the Federal Government's requirements in a timely and efficient manner.

○ The applicant must provide resumes that identify the educational and experience level of any individual(s) who will perform in a key position and other qualifications to show the key individuals' ability to comply with the minimum requirements of this announcement;

○ The applicant must provide a summary of the qualifications of non-key personnel. Resumes must be limited to three pages per person; and

○ The proposed staffing plan must demonstrate the applicant's ability to recruit, retain, or replace personnel who have the knowledge, experience, local-language skills, training and technical expertise commensurate with the requirements of this announcement. The plan must demonstrate the applicant's ability to provide bi-lingual personnel to train and mentor host-country participants.

Performance Measures: The applicant must provide measures of effectiveness that will demonstrate accomplishment of this cooperative agreement's overall objectives and with the specific “measurable outcomes” delineated above. Measures of effectiveness must relate to the performance goals stated in the “Purpose” section of this announcement. Measures must be objective and quantitative, and must measure the intended outcomes. The measures of effectiveness submitted with this application should reference and build upon and improve, where possible, those submitted by the Grantee in the previous year. The applicant must submit a section on measures of effectiveness with its application, and they will be an element for evaluation.

Budget Justification: The budget justification must comply with the criteria for applications. The applicant must submit, at a minimum, a cost proposal fully supported by information adequate to establish the reasonableness of the proposed amount.

Appendices: The applicant may include additional information in the application appendices, which will not count toward the narrative page limit. This additional information includes the following: Curricula Vitae, Resumes, Organizational Charts, Letters of Support, etc. An agency or organization is required to have a Dun and Bradstreet Data Universal Numbering System (DUNS) number to apply for a grant or cooperative agreement from the Federal government. The DUNS number is a nine-digit identification number, which uniquely identifies business entities. Obtaining a DUNS number is easy, and there is no charge. To obtain a DUNS number, access: http://frwebgate.access.gpo.gov/cgi-bin/leaving.cgi?from=leavingFR.html&log=linklog&to=http://www.dunandbradstreet.com or call 1-866-705-5711.

Additional requirements that could require submission of additional documentation with the application appear in section VI.2.—Administrative and National Policy Requirements.

3. Submission Dates and Times

The Office of Public Health and Science (OPHS) will assist with the administration of the grant and provides multiple mechanisms for the submission of applications, as described in the following sections. To be considered for review, applications must be received by the Office of Grants Management, Office of Public Health and Science, Department of Health and Human Services by 5 p.m. Eastern Time on the date specified in the dates section of the announcement. Applications will be considered as meeting the deadline if they are received on or before the deadline date. The application due date in this announcement supersedes the instructions in the OPHS-1.

Submission Mechanisms: The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5:00 p.m. Eastern Time on the deadline date specified in the DATES section of the announcement using one of the electronic submission mechanisms specified below. All required hardcopy original signatures and mail-in items must be received by the OPHS Office of Grants Management, (1101 Wootton Parkway, Suite 550, Rockville, MD 20852) no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal: The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must be received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package. All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal. Applicants should contact Grants.gov regarding any questions or concerns regarding the electronic application process conducted through the Grants.gov Web site Portal.

Electronic Submissions via the GrantSolutions System: OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio. When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications: Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, on or before 5 p.m. Eastern Time on the deadline date specified in the DATES section of the announcement. The application deadline date requirement specified in this announcement supersedes the instructions in the OPHS-1. Applications that do not meet the deadline will be returned to the applicant unread.

4. Intergovernmental Review of Applications

Executive Order 12372 does not apply to this program.

5. Funding Restrictions

Allowability, allocability, reasonableness, and necessity of direct and indirect costs that may be charged are outlined in the following documents: OMB-21 (Institutes of Higher Education); OMB Circular A-122 (Nonprofit Organizations) and 45 CFR part 74, Appendix E (Hospitals). Copies of these circulars can be found on the Internet at http://frwebgate.access.gpo.gov/cgi-bin/leaving.cgi?from=leavingFR.html&log= linklog&to=http://www.whitehouse.gov/omb.

Restrictions, which applicants must take into account while preparing the budget, are as follows:

• Alterations and renovations (A&R) are prohibited under grants/cooperative agreements to foreign recipients. This is an HHS Policy. “Alterations and renovations” are defined as work that changes the interior arrangements or other physical characteristics of an existing facility or of installed equipment so that it can be used more effectively for its currently designated purpose or adapted to an alternative use to meet a programmatic requirement. Recipients may not use funds for A&R (including modernization, remodeling, or improvement) of an existing building.

• Reimbursement of pre-award costs is not allowed.

• Recipients may not use funds awarded under this cooperative agreement to support any activity that duplicates another activity supported by any component of HHS.

Recipients may spend funds for reasonable program purposes, including personnel, travel, supplies, and services. Recipients may purchase equipment if deemed necessary to accomplish program objectives; however, they must request prior approval in an e-mail that explicitly notes the costs, and notes CDC/ASPR's approval of the explicit items for any equipment whose purchase price exceeds $10,000 USD.

The costs generally allowable in grants/cooperative agreements to domestic organizations are allowable to foreign institutions and international organizations, with the following exception: With the exception of the American University, Beirut and the WHO Secretariat, HHS will not pay indirect costs (either directly or through sub-award) to organizations located outside the territorial limits of the United States, or to international organizations, regardless of their location.

Recipients may contract with other organizations under this program; however, the applicant must perform a substantial portion of the project activities (including program management and operations) for which it is requesting funds. Contracts will require prior approval in writing from CDC/ASPR.

Applicants shall state all requests for funds in the budget in U.S. dollars. Once HHS makes an award, HHS will not compensate foreign recipients for currency-exchange fluctuations through the issuance of supplemental awards.

The funding recipient must obtain an audit of these funds (program-specific audit) by a U.S.-based audit firm with international branches and current licensure/authority in-country, and in accordance with International Accounting Standards or equivalent standard(s) approved in writing by CDC/ASPR.

A fiscal Recipient Capability Assessment may be required, prior to or post award, to review the applicant's business management and fiscal capabilities regarding the handling of U.S. Federal funds.

6. Other Submission Requirements

None.

V. Application Review Information

1. Criteria

CDC/ASPR will evaluate applications against the following factors:

Factor 1: Project Plan (30 Points)

CDC/ASPR will evaluate the extent to which the proposal demonstrates that the organization has the technical and institutional expertise to carry out the work/task requirements described in this announcement.

CDC/ASPR will evaluate the applicant's project plan to determine the extent to which it provides a clear, logical and feasible technical approach to meeting the goals of this announcement in terms of workflow, resources, communications and reporting requirements for accomplishing work in each of the operational task areas.

Factor 2: Staffing and Management Plan (40 Points)

(a) Personnel. CDC/ASPR will evaluate the relevant educational, work experience and local-language qualifications of key personnel, senior project staff, and subject-matter specialists to determine the extent to which they meet the requirements listed in this announcement.

(b) Staffing Plan. CDC/ASPR will evaluate the staffing plan to determine the extent to which the applicant's proposed organizational chart reflects proper staffing to accomplish the work described in this announcement, and the extent of the applicant's ability to recruit, retain, or replace personnel who have the knowledge, experience, local-language skills, training and technical expertise to meet requirements of the positions.

(c) Management Plan. CDC/ASPR will evaluate the proposed plans for managing the continued development and institutionalization of the Regional Training Center, and all its associated functions, and also the plans for accomplishing each of the other “measurable outcomes” specified in this RFA.

Factor 3: Performance Measures (15 Points)

CDC/ASPR will evaluate the applicant's description of performance measures, including measures of effectiveness, to determine the extent to which the applicant proposes objective and quantitative measures that relate to the performance goals stated in the Purpose section of this announcement, and whether the proposed measures will accurately measure the intended outcomes.

Factor 4: Understanding of the Requirements (15 Points)

CDC/ASPR will evaluate the extent of the applicant's understanding of the operational tasks identified in this announcement to ensure successful performance of the work in this project. Because the focus of the work will include interaction with other countries in Central and South America, the applicant must demonstrate an understanding of the cultural, ethnic, political and economic factors that could affect successful implementation of this cooperative agreement.

The applicant's proposal must also demonstrate understanding of the functions, capabilities and operating procedures of U.S. educational institutions, as well as U.S., Latin American and International NGOs, and describe the applicant's ability to work with and within those organizations.

2. Review and Selection Process

CDC/ASPR will review applications for completeness. An incomplete application or an application that is non-responsive to the eligibility criteria will not advance through the review process. CDC/ASPR will notify applicants if their applications did not meet submission requirements.

An objective review panel will evaluate complete and responsive applications according to the criteria listed in the AV.1. “Criteria” section above.

VI. Award Administration Information

1. Award Notices

The successful applicant will receive a Notice of Award (NoA). The NoA shall be the only binding, authorizing document between the recipient and HHS. An authorized Grants Management Officer will sign the NoA, and mail it to the recipient fiscal officer identified in the application.

Unsuccessful applicants will receive notification of the results of the application review by mail.

2. Administrative and National Policy Requirements

A successful applicant must comply with the administrative requirements outlined in 45 CFR part 74 and part 92 as appropriate. The Public Law 110-5, Continuing Appropriations Resolution, 2007 Section 20621, requires that when issuing statements, press releases, requests for proposals, bid solicitations, and other documents describing projects or programs funded in whole or in part with Federal money, the issuance shall clearly state the percentage and dollar amount of the total costs of the program or project to be financed with Federal money and the percentage and dollar amount of the total costs of the project or program to be financed by non-governmental sources.

3. Reporting Requirements

The applicant must provide HHS/ASPR with a hard copy, as well as an electronic copy of the following reports in English:

1. A quarterly progress report, due no later than 10 calendar days after the end of each quarter of the budget period. The quarterly progress report must contain the following elements:

a. A listing of all of the “Activities” and “Measurable Outcomes” of the Cooperative Agreement, and a summary of the actual activities and progress that has been made with each and every one of these activities and measurable outcomes during the quarter;

b. Disbursements requested during the quarter, and actual spending during the quarter:

c. Proposed objectives and activities for the next quarterly reporting period;

d. An update on the grant's budget, noting allocations by line item, draw down to date on each of the line items through the end of the quarter being reported upon, and the funds that remain in each line item, and overall;

e. Any additional information that may be requested by CDC/ASPR.

2. For every training course or module that is conducted, the applicant must provide the CDC/ASPR Project Officer with copies of the pre- and post-test results that were administered to every participant of every training class/module. These pre- and post-training test results should be provided in both an aggregated (i.e. summarized) format, and in a disaggregated (i.e. individual) format. Participants' personal information should be removed from these reports before they are shared with HHS, in order to protect the privacy and anonymity of the participants. These results must be provided to HHS no later than 21 calendar days after the final day of the course for which they apply.

3. An annual progress report, due no later than 15 calendar days after the end of the budget period, which must contain a detailed summary of all the elements required in the quarterly progress report described above;

4. A final performance report, due no later than 30 days after the end of the project period; and

5. A Financial Status Report (FSR) SF-269 is due 90 days after the close of the 12-month budget period.

Recipients must mail/e-mail the reports to the CDC/ASPR Project Officer listed in the “Agency Contacts” section of this announcement.

VII. Agency Contacts

For program technical assistance, contact: Craig Carlson, MPH, Office of Assistant Secretary for Preparedness and Response (ASPR), Department of Health and Human Services, Telephone: 202-205-5228, E-mail: craig.carlson@hhs.gov.

For financial, grants management, or budget assistance, contact: DeWayne Wynn, Grants Management Specialist, Office of Grants Management, Office of Public Health and Science, Department of Health and Human Services, 1101 Wootten Parkway, Suite 550, Rockville, MD 20857, Telephone: (240) 453-8822, E-Mail Address: DeWayne.Wynn.os@hhs.gov.

Dated: June 28, 2007.
RADM William C. Vanderwagen,
Assistant Secretary for Preparedness and Response (ASPR).

[FR Doc. E7-13034 Filed 7-6-07; 8:45 am]

BILLING CODE 4150-37-P